DEPARTMENT OF COMMERCE

International Trade Administration

[C-533-884, C-570-081]

Glycine From India and the People's Republic of China: Final Results of the Expedited First Sunset Reviews of the Countervailing Duty Orders

AGENCY: Enforcement and Compliance, International Trade Administration, Department of Commerce.

SUMMARY: The U.S. Department of Commerce (Commerce) finds that revocation of the countervailing duty orders on glycine from India and the People's Republic of China (China) would be likely to lead to continuation or recurrence of countervailable subsidies at the levels as indicated in the “Final Results of Sunset Reviews” section of this notice.

DATES: Applicable September 13, 2024.

FOR FURTHER INFORMATION CONTACT: Theodora Mattei or Tyler Weinhold, AD/CVD Operations, Office VI, Enforcement and Compliance, International Trade Administration, U.S. Department of Commerce, 1401 Constitution Avenue NW, Washington, DC 20230; telephone: (202) 482-4834 and (202) 482-3362 respectively.

SUPPLEMENTARY INFORMATION:

Background

On June 21, 2019, Commerce published the Orders in the Federal Register.¹ On May 1, 2024, Commerce published the notice of initiation of the first sunset reviews of the Orders, pursuant to section 751(c) of the Tariff Act of 1930, as amended (the Act).² On May 13, 2024, Commerce received a timely notice of intent to participate in the sunset reviews of both Orders from Deer Park Glycine and Chattem Chemicals, Inc. (collectively, domestic interested parties) within the 15-day deadline specified in 19 CFR 351.218(d)(1)(i).³ Each claimed interested party status under section 771(9)(C) of the Act as a domestic producer engaged in the production in the United States of glycine.

¹ See Glycine from India and the People's Republic of China: Countervailing Duty Orders, 84 FR 29173 (June 21, 2019) (collectively, the Orders).

² See Initiation of Five-Year (Sunset) Reviews, 89 FR 35073 (May 1, 2024).

³ See Domestic Interested Parties' Letter, “Notice of Intent to Participate,” dated May 13, 2024.

On May 20, 2024, Commerce received adequate substantive responses from the domestic interested parties within the 30-day deadline specified in 19 CFR 351.218(d)(3)(i).⁴ Commerce did not receive a substantive response from any other interested party in these proceedings, and no party requested a hearing. In accordance with section 751(c)(3)(B) of the Act, because Commerce did not receive a substantive response from any respondent party, pursuant to 19 CFR 351.218(e)(1)(ii)(B) and (e)(1)(ii)(C), respectively, respectively, we determined that the respondent interested parties did not provide an adequate response to the Initiation Notice. Therefore, on July 21, 2024, Commerce notified the U.S. International Trade Commission that it did not receive an adequate substantive response from respondent interested parties at that it would conduct expedited (120-day) sunset reviews of the Orders, pursuant to section 751(c)(3)(B) of the Act and 19 CFR 351.218(e)(1)(ii)(C)(2).⁵ On July 22, 2024, Commerce tolled certain deadlines in these administrative proceedings by seven days.⁶ The deadline for the final results of these sunset reviews is now September 5, 2024.

⁴ See the Domestic Interested Parties' Letters, “Sunset Review (1st Review) of the Countervailing Duty Order on Glycine from India; Substantive Response to the Notice of Initiation,” dated May 20, 2024; and “Sunset Review (1st Review) of the Countervailing Duty Order on Glycine from the People's Republic of China: Substantive Response to the Notice of Initiation,” dated May 20, 2024.

⁵ See Commerce's Letter, “Sunset Reviews Initiated on May 1, 2024,” dated June 21, 2024.

⁶ See Memorandum, “Tolling of Deadlines for Antidumping and Countervailing Duty Proceedings,” dated July 22, 2024.

Scope of the Orders

The product covered by these Orders is glycine at any purity level or grade from India and China. For a complete description of the scope of these Orders, see the Issues and Decision Memorandum.⁷

⁷ See Memorandum, “Decision Memorandum for the Final Results of the Expedited First Sunset Reviews of the Countervailing Duty Orders on Glycine from India and the People's Republic of China,” dated concurrently with, and hereby adopted by, this notice (Issues and Decision Memorandum).

Analysis of Comments Received

A complete discussion of all issues raised in this sunset review, including the likelihood of continuation or recurrence of countervailable subsidies and the net countervailable subsidy likely to prevail if the Orders were revoked, is provided in the accompanying Issues and Decision Memorandum.⁸ A list of the topics discussed in the Issues and Decision Memorandum is attached as an appendix to this notice. The Issues and Decision Memorandum is a public document and is on file electronically via Enforcement and Compliance's Antidumping and Countervailing Duty Centralized Electronic Services System (ACCESS). ACCESS is available to registered users at https://access.trade.gov. In addition, a complete version of the Issues and Decision Memorandum can be accessed directly at https://access.trade.gov/public/FRNoticesListLayout.aspx.

⁸ Id.

Final Results of Sunset Reviews

Pursuant to sections 751(c)(1) and 752(b) of the Act, Commerce determines that revocation of the Orders would be likely to lead to the continuation or recurrence of countervailable subsidies at the following rates:

Producer/exporter | Subsidy rate (percent ad valorem)
Glycine from India
Kumar Industries, India | 15.13
Avid Organics Pvt Ltd | 8.01
Paras Intermediates Pvt Ltd | 3.03
All Others | 5.01
Glycine from China
JC Chemicals Limited | 144.01
Simagchem Corp | 144.01
All-Others | 144.01

Administrative Protective Order

This notice serves as the only reminder to parties subject to an administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing this notice in accordance with sections 751(c), 752(b), and 777(i)(1) of the Act and 19 CFR 351.218.

Dated: September 5, 2024.
Abdelali Elouaradia,
Deputy Assistant Secretary for Enforcement and Compliance.

Appendix—List of Topics Discussed in the Issues and Decision Memorandum

I. Summary

II. Background

III. Scope of the Orders

IV. History of the Orders

V. Legal Framework

VI. Discussion of the Issues

1. Likelihood of Continuation or Recurrence of a Countervailable Subsidy

2. Net Countervailable Subsidy Rates Likely to Prevail

3. Nature of the Subsidies

VII. Final Results of Sunset Reviews

VIII. Recommendation

[FR Doc. 2024-20754 Filed 9-12-24; 8:45 am]

BILLING CODE 3510-DS-P